DEPARTMENT OF AGRICULTURE

Agricultural Marketing Service

[TM-00-05]

Nominations for Members of the National Organic Standards Board

AGENCY: Agricultural Marketing Service, USDA.

ACTION: Notice.

SUMMARY: The Organic Foods Production Act (OFPA) of 1990, as amended, requires the establishment of a National Organic Standards Board (NOSB). The NOSB is a 15 member board that advises the Secretary on all aspects of the National Organic Program, and has responsibility for development of a proposed National List of Approved and Prohibited Substances. The U.S. Department of Agriculture (USDA) is requesting nominations to fill five upcoming vacancies on the NOSB. The Secretary of Agriculture will appoint nominees to serve 5-year terms of office scheduled to commence in January 2001. USDA encourages eligible minorities, women, and persons with disabilities to apply.

DATES: Written nominations, with resumes, must be postmarked on or before August 30, 2000.

ADDRESSES: Nominations should be sent to Mr. Keith Jones, Program Manager, National Organic Program, USDA-AMS-TMP-NOP, Room 2510-So., Ag Stop 0268, P.O. Box 96456, Washington, D.C. 20090-6456.

FOR FURTHER INFORMATION CONTACT: Mr. Keith Jones, Telephone: (202) 720-3252; Fax: (202) 690-3924; e-mail: keith.jones@usda.gov.

SUPPLEMENTARY INFORMATION: The OFPA of 1990, as amended (7 U.S.C. Section 6501 et seq.), requires the Secretary to establish an organic certification program for producers and handlers of agricultural products that have been produced using organic methods. In developing this program, the Secretary is required to establish a NOSB. The purpose of the NOSB is to assist in the development of a proposed National List of Approved and Prohibited Substances and to advise the Secretary on other aspects of the National Organic program.

The current NOSB has made recommendations to the Secretary regarding the establishment of the initial organic program. It is anticipated that the NOSB will continue to make recommendations on various matters including recommendations on substances it believes should be permitted to be used or prohibited for use in organic production and handling.

The NOSB is required to be composed of various individuals including owners or operators of an organic production organization, persons who represent public interest or consumer interest groups, and an individual who is a certifying agent. Nominations are sought for two positions for organic producer and two positions for consumer/public interest representatives. Additionally, nominations are being sought for the certifying agent position who will represent State and private certifiers. Individuals desiring to be appointed to the NOSB at this time must be either an owner or operator of an organic production operation, a person who represents public or consumer interest groups, or a State or private organic certifying agent. Selection criteria will include such factors as: demonstrated experience and interest in organics; diverse commodity and geographic representation; support of consumer and public interest organizations; demonstrated experience with environmental matters; and other factors as may be appropriate for specific positions.

After applications have been reviewed, individuals receiving nominations will be contacted and supplied with biographical forms. The biographical information must be completed and returned to USDA within 10 working days of its receipt to expedite the clearance process that is required by the Secretary.

Equal opportunity practices will be followed in all appointments to the NOSB in accordance with USDA policies. To ensure that the recommendations for the NOSB have taken into account the needs of the diverse groups served by USDA, membership shall include, to the extent practicable, individuals with demonstrated ability to represent minorities, women, and persons with disabilities.

The information collection requirements concerning the nomination process have been previously cleared by the Office of Management and Budget (OMB) under OMB Control No. 0505-0001.

Dated: May 26, 2000.
Sharon Bomer Lauritsen,
Acting Deputy Administrator, Transportation and Marketing.

[FR Doc. 00-13784 Filed 6-1-00; 8:45 am]

BILLING CODE 3410-02-P